DEPARTMENT OF HOMELAND SECURITY

Transportation Security Administration

Intent To Request Approval From OMB of One New Public Collection of Information: Office of Law Enforcement/Federal Air Marshal Service LEO Reimbursement Request

AGENCY: Transportation Security Administration, DHS.

ACTION: 60-day Notice.

SUMMARY: The Transportation Security Administration (TSA) invites public comment on a new Information Collection Request (ICR) abstracted below that we will submit to the Office of Management and Budget (OMB) for approval in compliance with the Paperwork Reduction Act (PRA). The ICR describes the nature of the information collection and its expected burden. The collection involves the reimbursement of expenses incurred by airport operators for the provision of law enforcement officers (LEOs) to support airport checkpoint screening.

DATES: Send your comments by August 20, 2012.

ADDRESSES: Comments may be emailed to TSAPRA@dhs.gov or delivered to the TSA PRA Officer, Office of Information Technology (OIT), TSA-11, Transportation Security Administration, 601 South 12th Street, Arlington, VA 20598-6011.

FOR FURTHER INFORMATION CONTACT: Susan L. Perkins at the above address, or by telephone (571) 227-3398.

SUPPLEMENTARY INFORMATION:

Comments Invited

In accordance with the Paperwork Reduction Act of 1995 (44 U.S.C. 3501 et seq.), an agency may not conduct or sponsor, and a person is not required to respond to, a collection of information unless it displays a valid OMB control number. The ICR documentation is available at http://www.reginfo.gov. Therefore, in preparation for OMB review and approval of the following information collection, TSA is soliciting comments to—

(1) Evaluate whether the proposed information requirement is necessary for the proper performance of the functions of the agency, including whether the information will have practical utility;

(2) Evaluate the accuracy of the agency's estimate of the burden;

(3) Enhance the quality, utility, and clarity of the information to be collected; and

(4) Minimize the burden of the collection of information on those who are to respond, including using appropriate automated, electronic, mechanical, or other technological collection techniques or other forms of information technology.

Information Collection Requirement

Pursuant to 49 U.S.C. 114(g), 44901(g), 44903(e) and 44922(f), TSA has authority to enter into agreements with participants to reimburse expenses incurred by airport operators for the provision of LEOs in support of screening at airport checkpoints. Consistent with this authority, TSA has created the LEO Reimbursement Program, which is run by the Office of Law Enforcement/Federal Air Marshal Service (OLE/FAMS).

TSA OLE/FAMS requires that participants in the LEO Reimbursement Program record the details of all reimbursements sought. In order to provide for the orderly tracking of reimbursements, the LEO Reimbursement Program seeks to establish a new form titled LEO Reimbursement Request.

The LEO Reimbursement Request form will be available at www.tsa.gov. Upon completion, participants submit the LEO Reimbursement Request Form directly to the OLE/FAMS LEO Reimbursement Program via fax, electronic upload via scanning the document, mail, or in person. The OLE/FAMS Reimbursement Program reviews all requests for reimbursement forms received. TSA estimates that there will be 326 participants responding monthly, equaling an estimated annual total of 3,912 responses.

TSA estimates each respondent will spend approximately one hour to complete the request for reimbursement form, for a total annual hour burden of 3,912 hours.

Issued in Arlington, Virginia, on June 12, 2012.
Susan Perkins,
TSA Paperwork Reduction Act Officer, Office of Information Technology.

[FR Doc. 2012-15026 Filed 6-19-12; 8:45 am]

BILLING CODE 9110-05-P